DEPARTMENT OF ENERGY

Federal Energy Regulatory Commission

[Docket No. CP00-77-000]

Maritimes & Northeast Pipelines L.L.C.; Notice of Application

February 16, 2000.

Take notice that on February 1, 2000. Maritimes & Northwest Pipeline, L.L.C. (Maritimes) tendered for filing in the captioned docket an abbreviated application for certificate of public and necessity (Application) under Section 7(c) of the Natural Gas Act (NGA) and Section 157.7 of the regulation of the Commission, seeking authorization to establish an initial incremental rate for service under Rate Schedule MNLFT on Maritimes' new Bucksport Lateral.

Maritimes states that it will construct the Bucksport Lateral pursuant to its automatic blanket construction certificate authority. The Bucksport Lateral will extend from Maritimes' existing mainline facilities in the Orrington, Maine area to distribution facilities that Bangor Gas Company (Bangor Gas) will be constructing. Pursuant to a firm transportation agreement under Rate Schedule MNLFT, Maritimes has agreed to provide Bangor Gas with 50,000 dekathems per day for firm lateral line service on the Bucksport Lateral, and Bangor Gas has agreed to pay the maximum cost-based initial rate for service on the Bucksport Lateral established in the instant proceeding.

Maritimes requests that the Commission issue a final order by April 1, 2000, approving the initial incremental rate for service on the Bucksport Lateral.

Any person desiring to be heard or to protest said Application should file a motion to intervene or a protest with the Federal Energy Regulatory Commission, 888 First Street, NE, Washington, DC 20426, in accordance with Sections 385.214 or 385.211 of the Commission's Rules and Regulations. All such motions or protests must be filed on or before February 23, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call (202) 208-2222 for assistance).

Take further notice that, pursuant to the authority contained in and subject to the jurisdiction conferred upon the Commission by Sections 7 and 15 of the NGA, and the Commission's Rules of Practice and Procedure, a hearing will be held without further notice before the Commission or its designee on this Application if no petition to intervene is filed within the time required herein or if the Commission on its own review of the matter finds that a grant of the Application is required by the public convenience and necessity. If a petition for leave to intervene is timely filed, or if the Commission, on its own motion, believes that a formal hearing is required, further notice of such hearing will be duly given.

Under the procedure herein provided for, unless otherwise advised, it will be unnecessary for Maritimes to appear or be represented at the hearing.

David P. Boergers,
Secretary.

[FR Doc. 00-4182 Filed 2-22-00; 8:45 am]

BILLING CODE 6717-01-M